ENVIRONMENTAL PROTECTION AGENCY

[EPA-HQ-OAR-2010-0560; FRL-9175-9]

Call for Information: Information on Greenhouse Gas Emissions Associated With Bioenergy and Other Biogenic Sources

AGENCY: Environmental Protection Agency (EPA).

ACTION: Call for Information.

SUMMARY: EPA is publishing this Call for Information to solicit information and viewpoints from interested parties on approaches to accounting for greenhouse gas emissions from bioenergy and other biogenic sources. The purpose of this Call is to request comment on developing an approach for such emissions under the Prevention of Significant Deterioration (PSD) and Title V Programs as well as to receive data submissions about these sources and their emissions, general technical comments on accounting for these emissions, and comments on the underlying science that should inform possible accounting appoaches.

DATES: Information and comments must be received on or before September 13, 2010.

ADDRESSES: Submit your information, identified by Docket ID No. EPA-HQ-OAR-2010-0560, by one of the following methods:

• Federal eRulemaking Portal: http://www.regulations.gov: Follow the online instructions for submitting comments.

• E-mail: GHGBiogenic@epa.gov.

• Fax: (202) 566-1741.

• Mail: EPA Docket Center, Attention Docket OAR-2010-0560, Mail code 2822T, 1200 Pennsylvania Avenue, NW., Washington, DC 20460.

• Hand/Courier Delivery: EPA Docket Center, Public Reading Room, Room 3334, EPA West Building, Attention Docket OAR-2010-0560, 1301 Constitution Avenue, NW., Washington, DC 20004. Such deliveries are only accepted during the Docket's normal hours of operation, and special arrangements should be made for deliveries of boxed information.

Instructions: Direct your information and comments to Docket ID No. EPA-HQ-OAR-2010-0560. EPA's policy is that all information received will be included in the public docket without change and may be made available online at http://www.regulations.gov, including any personal information provided, unless the information includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and should be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at EPA's Docket Center, Public Reading Room, EPA West Building, Room 3334, 1301 Constitution Ave., NW., Washington, DC 20004. This Docket Facility is open from 8:30 a.m. to 4:30 p.m., Monday through Friday, excluding legal holidays. The telephone number for the Public Reading Room is (202) 566-1744, and the telephone number for the Air Docket is (202) 566-1742.

FOR FURTHER INFORMATION CONTACT: Jennifer Jenkins, Climate Change Division, Office of Atmospheric Programs (MC-6207J), Environmental Protection Agency, 1200 Pennsylvania Ave., NW., Washington, DC 20460; telephone number: (202) 343-9361; fax number: (202) 343-2359; e-mail address: jenkins.jennifer@epa.gov.

SUPPLEMENTARY INFORMATION:

Table of Contents

I. General Information

A. What is today's action?

B. What additional background information is EPA making available?

C. Where can I get the information?

D. What specific information is EPA seeking?

E. What should I consider as I prepare my information and comments for EPA?

F. Submitting Confidential Business Information (CBI).

I. General Information

A. What is today's action?

On June 3, 2010, EPA published the final Prevention of Significant Deterioration and Title V Greenhouse Gas Tailoring Rule (known hence forth as the Tailoring Rule) (75 FR 31514). In that Rule, EPA did not take action on a request from commenters to exclude CO2 emissions from biogenic fuels ¹. Instead, EPA explained that the legal basis for the Rule, reflecting specifically the overwhelming permitting burdens that would be created under the statutory emissions thresholds, does not itself provide a rationale for excluding all emissions of CO2 from combustion of a particular fuel, even a biogenic one. The fact that the Tailoring Rule did not take final action one way or another concerning such an exclusion does not mean that EPA has decided there is no basis for treating biomass CO2 emissions differently from fossil fuel CO2 emissions under the Clean Air Act's PSD and Title V Programs. Further, in finalizing the Tailoring Rule, the Agency did not have sufficient information to address the issue of the carbon neutrality of biogenic energy in any event.

¹ GHG emissions from bioenergy and other biogenic sources are generated during the combustion or decomposition of biologically-based material, and include sources such as, but not limited to, utilization of forest or agricultural products for energy, wastewater treatment and livestock management facilities, landfills, and fermentation processes for ethanol production.

This Call for Information serves as a first step for EPA in considering options for addressing emissions of biogenic CO2 under the PSD and Title V programs as indicated above.

Given the broad and complex nature of this issue, EPA also welcomes stakeholders to respond to this Call for Information by providing data submissions about these sources and their emissions and technical comments on approaches generally to accounting for GHG emissions from bioenergy and other biogenic sources. EPA requests that stakeholders provide relevant information on the underlying science that should inform possible accounting approaches.

In response to this Call for Information, interested parties are invited to assist EPA in the following: (1) Surveying and assessing the science by submitting research studies or other relevant information, and (2) evaluating different accounting approaches and options by providing policy analyses, proposed or published methodologies, or other relevant information. Interested parties are also invited to submit data or other relevant information about the current and projected scope of GHG emissions from bioenergy and other biogenic sources.

B. What additional background information is EPA making available?

National-level GHG inventories are a common starting point for evaluations and discussions of approaches to accounting for GHG emissions from bioenergy sources. EPA's Inventory of U.S. Greenhouse Gas Emissions and Sinks (the Inventory) ² is an impartial, policy-neutral report that tracks annual GHG emissions including carbon dioxide (CO2), methane (CH4), nitrous oxide (N2O), hydrofluorocarbons (HFCs), perfluorocarbons (PFCs), and sulfur hexafluoride (SF6). The United States has submitted the Inventory to the Secretariat of the United Nations Framework Convention on Climate Change (UNFCCC) under its obligation as a Party to the Convention every year since 1993. The UNFCCC, ratified by the United States in 1992, defines the overall framework for intergovernmental efforts to tackle the challenge posed by climate change. The Inventory submitted by the United States is consistent with national inventory data submitted by other UNFCCC Parties, and uses internationally accepted methodologies established by the Intergovernmental Panel on Climate Change (IPCC).

² US EPA. 2010. Inventory of U.S. Greenhouse Gas Emissions and Sinks: 1990-2008. U.S. EPA #430-R-10-06. Available in Docket at EPA-HQ-OAR-2010-0560.

The Revised 1996 IPCC Guidelines (IPCC Guidelines) ³ provide methodologies for estimating all anthropogenic sources and sinks of GHG emissions at the national scale, classified into six broad sectors: Energy, Industrial Processes, Solvents and Other Product Uses, Agriculture, Land-Use Change and Forestry (LUCF), and Waste. The Energy Sector includes all GHGs emitted during the production, transformation, handling and consumption of energy commodities, including fuel combustion. The LUCF Sector includes emissions and sequestration resulting from human activities which change the way land is used or which affect the amount of biomass in existing biomass stocks. According to the IPCC Guidelines, CO2 emissions from biomass combustion

³ Intergovernmental Panel on Climate Change (IPCC). 1996. Revised 1996 IPCC Guidelines for National Greenhouse Gas Inventories, Prepared by the National Greenhouse Gas Inventories Programme. Published: IGES, Japan. 3 Volumes. Available in Docket at EPA-HQ-OAR-2010-0560.

“* * * should not be included in national CO2 emissions from fuel combustion. If energy use, or any other factor, is causing a long term decline in the total carbon embodied in standing biomass (e.g. forests), this net release of carbon should be evident in the calculation of CO2 emissions described in the Land Use Change and Forestry chapter.” ⁴

⁴ Ibid., Reference Manual (Vol. 3), Page 1.10.

Thus, at the national level, these CO2 emissions are not included in the estimate of emissions from a country's Energy Sector, even though the emissions physically occur at the time and place in which useful energy is being generated (i.e., power plant or automobile). The purpose of this accounting convention is to avoid double-counting that would provide a misleading characterization of a country's contribution to global GHG emissions (i.e., to avoid having CO2 emissions accounted both in the Energy Sector and the LUCF Sector). Carbon dioxide emissions from bioenergy sources are still reported as information items in the Energy Sector of the Inventory, but are not included in national fuel-combustion totals to avoid this double-counting at the national scale.⁵

⁵ Emissions of methane and nitrous oxide from the combustion of biomass for energy are included in the Energy Sector, however, because their magnitude is dependent on the specific way in which the fuel is burned (i.e., combustion technology and operating conditions), which cannot be known by analyzing the changes in the amount of carbon in standing biomass.

The IPCC Guidelines for National Greenhouse Gas Inventories are relevant to today's Call for Information because they have influenced subsequent reporting systems, such as the World Resources Institute/World Business Council for Sustainable Development (WRI/WBCSD) protocols.⁶ Additionally, some stakeholders have identified the IPCC Guidelines and the Inventory as providing a foundational methodology for accounting for GHG emissions from bioenergy.⁷

⁶ World Resources Institute/World Business Council on Sustainable Development. 2004. A Corporate Accounting and Reporting Standard. Available in Docket at EPA-HQ-OAR-2010-0560.

⁷ Letter from Mr. Daniel Fulton, President and CEO, Weyerhaeuser Corporation to Administrator Jackson, May 24, 2010. Available in Docket at EPA-HQ-OAR-2010-0560.

Separately, to assist interested parties in considering the broader issues pertaining to this Call for Information, EPA has assembled and placed into the docket a set of documents relevant to the topic of today's action. This collection of documents is not intended to represent a complete or exhaustive set of materials, but rather serves as a starting point to provide further background information to interested parties regarding key concepts and scientific research. For example, the Docket includes for review the following information:

• U.S. EPA. 2010. Inventory of U.S. Greenhouse Gas Emissions and Sinks: 1990-2008. U.S. EPA #430-R-10-06.

• Intergovernmental Panel on Climate Change (IPCC). 1996. Revised 1996 IPCC Guidelines for National Greenhouse Gas Inventories, Prepared by the National Greenhouse Gas Inventories Programme. Published: IGES, Japan.

• IPCC. 2000. Special Report on Land Use, Land-Use Change, and Forestry. Watson, R., Noble, I., Bolin, B., Ravindranath, N., Verardo, D., and Dokken, D. (eds.). Cambridge: Cambridge University Press.

• IPCC. 2000. Good Practice Guidance and Uncertainty Management in National Greenhouse Gas Inventories, Prepared by the National Greenhouse Gas Inventories Programme. Published: IGES, Japan.

• IPCC. 2003. Good Practice Guidance for Land Use, Land-Use Change and Forestry. Prepared by the National Greenhouse Gas Inventories Programme. Penman, J., Gytarsky, M., Krug, T., Kruger, D., Pipatti, R., Buendia, L., Miwa, K., Ngara, T., Tanabe, K. and Wagner, F. (eds.). Published: IGES, Japan.

• IPCC. 2006. 2006 IPCC Guidelines for National Greenhouse Gas Inventories, Prepared by the National Greenhouse Gas Inventories Programme. Eggleston, H.S., Buendia, L., Miwa, K., Ngara, T. and Tanabe, K. (eds.). Published: IGES, Japan.

• World Resources Institute/World Business Council on Sustainable Development. 2004. A Corporate Accounting and Reporting Standard.

• Letter from Mr. Daniel S. Fulton, President and CEO, Weyerhaeuser Corporation to Administrator Lisa P. Jackson. May 24, 2010.

• Response from Assistant Administrator Gina McCarthy to Mr. Fulton. June 2, 2010.

• Interim Phase I Report of the Climate Change Work Group of the Permits, New Source Review and Toxics Subcommittee, Clean Air Act Advisory Committee. February 3, 2010.

• Manomet Center for Conservation Sciences. 2010. Massachusetts Biomass Sustainability and Carbon Policy Study: Report to the Commonwealth of Massachusetts Department of Energy Resources. Walker, T. (Ed.). Contributors: Cardellichio, P., Colnes, A., Gunn, J., Kittler, B., Recchia, C., Saah, D., and Walker, T. Natural Capital Initiative Report NCI-2010-03. Brunswick, Maine.

• USDA Forest Service, Pacific Southwest Research Station. 2009. Biomass to Energy: Forest Management for Wildfire Reduction, Energy Production, and Other Benefits. California Energy Commission, Public Interest Energy Research (PIER) Program. CEC-500-2009-080.

• Searchinger, T., Hamburg, S., Melillo, J., Chameides, W., Havlik, P., Kammen, D., Likens, G., Lubowski, R., Obersteiner, M., Oppenheimer, W., Robertson, G.P., Schlesinger, W., Tilman, G.D. 2009. Fixing a critical climate accounting error. Science 326: 527-528.

• Meridian Institute. 2010. Summary of Bioenergy Greenhouse Gas Accounting Stakeholder Group Discussions. May 13, 2010. Washington, DC.

C. Where can I get the information?

All of the information can be obtained through the Air Docket and at http://www.regulations.gov (see ADDRESSES section above for docket contact information).

D. What specific information is EPA seeking?

As described in Section I.A, EPA is requesting two types of submissions via this Call for Information: (1) Technical comments and data submissions related to the accounting for GHG emissions from bioenergy and other biogenic sources with respect specifically to the PSD and Title V Programs, and (2) more general technical comments and data submissions related to accounting for GHG emissions from bioenergy and other biogenic sources without reference to specific rulemaking efforts.

EPA is soliciting from interested parties information and views on topics and questions including, but not limited to the following:

• Biomass under PSD/BACT. What criteria might be used to consider biomass fuels differently with regard to the Best Available Control Technology (BACT) review process under PSD? How could the process of determining BACT under the PSD program allow for adequate consideration of the impacts and benefits of using biomass fuels?

• National-scale carbon neutrality in the IPCC Guidelines. In the IPCC accounting approach described in Section I.B, at the national scale emissions from combustion for bioenergy are included in the LUCF Sector rather than the Energy Sector. To what extent does this approach suggest that biomass consumption for energy is “neutral” with respect to net fluxes of CO2?

• Smaller-scale accounting approaches. The Clear Air Act (CAA) provisions typically apply at the unit, process, or facility scale, whereas the IPCC Guidance on accounting for GHG emissions from bioenergy sources was written to be applicable at the national scale. EPA is interested in understanding the strengths and limitations of applying the national-scale IPCC approach to assess the net impact (i.e. accounting for both emissions and sequestration) on the atmosphere of GHG emissions from specific biogenic sources, facilities, fuels, or practices. To what extent is the accounting procedure in the IPCC Guidelines applicable or sufficient for such specific assessments?

• Alternative accounting approaches. Both a default assumption of carbon neutrality and a default assumption that the greenhouse gas impact of bioenergy is equivalent to that of fossil fuels may be insufficient because they oversimplify a complex issue. If this is the case, what alternative approaches or additional analytical tools are available for determining the net impact on the atmosphere of CO2 emissions associated with bioenergy? Please comment specifically on how these approaches address:

—The time interval required for production and consumption of biological feedstocks and bioenergy products. For example, the concept of “carbon debt” has been proposed as the length of time required for a regrowing forest to “pay back” the carbon emitted to the atmosphere when biomass is burned for energy.

—The appropriate spatial/geographic scale for conducting this determination. For example, the question of spatial scale has legal complications under the CAA, but may be relevant for some of the suggested approaches.

• Comparison with fossil energy. EPA is interested in approaches for assessing the impact on the atmosphere of emissions from bioenergy relative to emissions from fossil fuels such as coal, oil, and gas. What bases or metrics are appropriate for such a comparison?

• Comparison among bioenergy sources. EPA is also interested in comments on accounting methods that might be appropriate for different types of biological feedstocks and bioenergy sources. What bases or metrics are appropriate for such a comparison among sources? In other words, are all biological feedstocks (e.g. corn stover, logging residues, whole trees) the same, and how do we know?

• Renewable or sustainable feedstocks. Specifically with respect to bioenergy sources (especially forest feedstocks), if it is appropriate to make a distinction between biomass feedstocks that are and are not classified as “renewable” or “sustainable,” what specific indicators would be useful in making such a determination?

• Other biogenic sources of CO2. Other biogenic sources of CO2 (i.e., sources not related to energy production and consumption) such as landfills, manure management, wastewater treatment, livestock respiration, fermentation processes in ethanol production, and combustion of biogas not resulting in energy production (e.g., flaring of collected landfill gas) may be covered under certain provisions of the CAA, and guidance will be needed about exactly how to estimate them. How should these “other” biogenic CO2 emission sources be considered and quantified? In what ways are these sources similar to and different from bioenergy sources?

• Additional technical information. EPA is also interested in receiving quantitative data and qualitative information relevant to biogenic greenhouse gas emissions, including but not limited to the following topics:

—Current and projected utilization of biomass feedstocks for energy.

—Economic, technological, and land-management drivers for projected changes in biomass utilization rates.

—Current and projected levels of GHG emissions from bioenergy and other biogenic sources.

—Economic, technological and land-management drivers for projected changes in emissions.

—Current and projected C sequestration rates in lands used to produce bioenergy feedstocks.

—Economic, technological and land-management drivers for projected changes in sequestration rates.

—The types of processes that generate or are expected to generate emissions from bioenergy and other biogenic sources.

—The number of facilities that generate or are expected to generate such emissions.

—Emission factor information, particularly for the biogenic CO2 source categories of wastewater treatment, livestock management, and ethanol fermentation processes.

—Potential impacts on specific industries and particular facilities of various methods of accounting for biogenic GHG emissions.

—Potential impacts of GHG emissions from bioenergy and other biogenic sources on other resources such as water availability and site nutrient quality.

—Potential impacts of GHG emissions from bioenergy and other biogenic sources on other air pollutants such as VOCs, other criteria pollutants, and particulate matter.

E. What should I consider as I prepare information for EPA?

You may find the following suggestions helpful for preparing your comments:

1. Explain your views as clearly as possible.

2. Describe any assumptions that you used.

3. Provide any technical information or data you used that support your views.

4. Provide specific examples to illustrate your concerns, suggestions, and recommendations.

5. Offer alternatives, if possible, if a particular approach is criticized.

6. Make sure to submit your information by the deadline identified.

7. To ensure proper receipt by EPA, identify the appropriate docket identification number in the subject line on the first page of your response. It would also be helpful if you provided the name, date, and Federal Register citation related to your comments.

F. Submitting Confidential Business Information (CBI).

Do not submit information you are claiming as CBI to EPA through http://www.regulations.gov or e-mail. Clearly mark the part of the information that you claim to be CBI. Information so marked will not be disclosed except in accordance with procedures set forth in 40 CFR part 2. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket.

Dated: July 9, 2010.
Gina McCarthy,
Assistant Administrator, Office of Air and Radiation.

[FR Doc. 2010-17266 Filed 7-14-10; 8:45 am]

BILLING CODE 6560-50-P